FEDERAL COMMUNICATIONS COMMISSION

47 CFR Part 73

[DA 06-14; MB Docket No. 03-87; RM-10686]

Radio Broadcasting Services; Dilley and Pearsall, TX

AGENCY: Federal Communications Commission.

ACTION: Final rule.

SUMMARY: The Audio Division, at the request of Pearsall Radio Works, Ltd., reallots Channel 237A from Pearsall to Dilley, Texas, and modifies Station KVWG-FM's license accordingly. See 68 FR 18177, April 15, 2003. Channel 237A can be allotted to Dilley in compliance with the Commission's minimum distance separation requirements with a site restriction of 2.7 kilometers (1.7 miles) east at Petitioner's requested site. The reference coordinates for Channel 237A at Dilley are 28-39-55 North Latitude and 99-08-35 West Longitude. Additionally, Channel 227A can be allotted to Pearsall, Texas, as a replacement service with a site restriction of 1.7 kilometers (1.1 miles) west at Petitioner's requested site. The reference coordinates for Channel 227A at Pearsall are 28-53-13 North Latitude and 99-06-40 West Longitude. See Supplementary Informaton, infra.

DATES: Effective February 21, 2006. The window period for filing applications for Channel 227A at Pearsall, Texas, will not be opened at time. Instead, the issue of opening this allotment for auction will be addressed by the Commission in a subsequent order.

FOR FURTHER INFORMATION CONTACT: Sharon P. McDonald, Media Bureau, (202) 418-2180.

SUPPLEMENTARY INFORMATION: This is a synopsis of the Commission's Report and Order, MB Docket No. 03-87, adopted January 4, 2006, and released January 6, 2006. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see U.S.C. § 801(a)(1)(A).

Since Pearsall and Dilley are located within 320 kilometers (199 miles) of the Mexican border, the Commission sought Mexican concurrence for the allotment of Channel 237A at Dilley and Channel 227A at Pearsall, Texas. Mexican concurrence has been received for Channel 227A at Pearsall. However, concurrence of the Mexican government has not yet been received for Channel 237A at Dilley. If a construction permit for Channel 237A at Dilley, Texas, is granted prior to the Commission's receipt of formal concurrence in the allotment by the Mexican Government, the construction permit will include the following condition: “Use of this allotment is subject to suspension, modification, or termination without right to hearing, if found by the Commission to be necessary in order to conform to the 1992 USA-Mexico FM Broadcast Agreement or if specifically objected to by Mexico's Secretaria de Communicaciones Y Transportes.”

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Texas, is amended by removing Channel 255C2 and adding Channel 255C1, Channel 227A and Channel 237A at Dilley and by removing Channel 237A at Pearsall.

Federal Communications Commission.
John A. Karousos,
Assistant Chief, Audio Division, Media Bureau.

[FR Doc. 06-753 Filed 1-31-06; 8:45 am]

BILLING CODE 6712-01-P